DEPARTMENT OF THE INTERIOR

National Park Service

Notice of Availability for Little Rock Central High School National Historic Site, Arkansas

AGENCY: National Park Service, Department of the Interior.

ACTION: Notice of availability of the final general management plan and final environmental impact statement for Little Rock Central High School National Historic Site, Arkansas.

SUMMARY: Pursuant to section 102(2) of the National Environmental Policy Act (NEPA) of 1969, the National Park Service (NPS) announces the availability of the final general management plan and final environmental impact (FGMP/FEIS) for Little Rock Central High School National Historic Site (NHS), Arkansas. This notice is being furnished as required by NEPA Regulations 40 CFR 1501.7.

DATES: The required no-action period on this FGMP/FEIS will expire 30 days after the Environmental Protection Agency has published a notice of availability of the FEIS in the Federal Register.

ADDRESSES: Copies of the FEIS/FGMP are available from the Superintendent, Little Rock Central High School National Historic Site, 2125 Daisy L. Gatson Bates Drive, Little Rock, Arkansas, 72202. Telephone 501-374-1957.

SUPPLEMENTARY INFORMATION: The purpose of the general management plan is to set forth the basic management philosophy for the NHS and to provide the strategies for addressing issues and achieving identified management objectives. The FGMP/FEIS describes and analyzes the environmental impacts of a proposed action and two action alternatives for the future management direction of the NHS. A no action alternative is also evaluated.

The draft general management plan and draft environmental impact statement for Little Rock Central High School was released to the public on October 20, 2001. The public comment period ended January 6, 2002. No substantive comments were received on the draft document; consequently, no changes were made to the alternatives or environmental consequences.

The responsible official is Mr. William W. Schenk, Regional Director, Midwest Region.

Dated: March 19, 2002.
David N. Given,
Acting Regional Director, Midwest Region.

[FR Doc. 02-8629 Filed 4-9-02; 8:45 am]

BILLING CODE 4310-70-P